DEPARTMENT OF HEALTH AND HUMAN SERVICES

Substance Abuse and Mental Health Services Administration

Notice of Meeting

Pursuant to Public Law 92-463, notice is hereby given that the Substance Abuse and Mental Health Services Administration (SAMHSA) National Advisory Council will meet on September 10-11, 2007.

The meeting is open to the public and will include presentations by SAMHSA staff and consumers on the following initiatives: The First Lady's Initiative, “Helping America's Youth,” SAMHSA's Role in Meeting the Physical and Mental Health Needs on Returning Veterans and their Families, SAMHSA's Suicide Prevention Initiative and SAMHSA's Workforce Development Activities. The agenda will also include a panel session where five recipients of SAMHSA's first Science and Service Awards will discuss their experiences in implementing evidence-based practices in the fields of mental health treatment, mental health promotion, substance abuse treatment; substance abuse promotion, and co-occurring disorders.

Attendance by the public will be limited to space available. Public comments are welcome. Please communicate with the SAMHSA National Advisory Council Executive Secretary, Toian Vaughn (see contact information below), to make arrangements to attend, to comment or to request special accommodations for persons with disabilities.

Substantive program information, a summary of the meeting, and a roster of Council members may be obtained as soon as possible after the meeting, either by accessing the SAMHSA Committee Web site, http://www.nac.samhsa.gov, or by contacting Ms. Vaughn. The transcript for the meeting will also be available on the SAMHSA Committee Web site within three weeks after the meeting.

Committee Name: SAMHSA National Advisory Council.

Date/Time/Type: Monday, September 10, 2007, from 9 a.m. to 4:15 p.m.: Open. Tuesday, September 11, 2007, from 9 a.m. to 12 p.m.: Open.

Place: 1 Choke Cherry Road, Sugarloaf and Seneca Conference Rooms, Rockville, Maryland 20857.

FOR FURTHER INFORMATION CONTACT: Toian Vaughn, Executive Secretary, SAMHSA National Advisory Council and SAMHSA Committee Management Officer, 1 Choke Cherry Road, Room 8-1089, Rockville, Maryland 20857, Telephone: (240) 276-2307; FAX: (240) 276-2220 and E-mail: toian.vaughn@samhsa.hhs.gov.

Dated: August 7, 2007.
Toian Vaughn,
Committee Management Officer, Substance Abuse and Mental Health Services Administration.

[FR Doc. 07-4054 Filed 8-17-07; 8:45 am]

BILLING CODE 4162-20-M